ENVIRONMENTAL PROTECTION AGENCY

[FRL-7111-3]

Underground Injection Control Program Hazardous Waste Injection; Restrictions; Petition for Exemption—Class I Hazardous Waste Injection; E. I. du Pont de Nemours & Company, Inc.

AGENCY: Environmental Protection Agency.

ACTION: Notice of final decision on a no migration petition reissuance.

SUMMARY: Notice is hereby given that a reissuance of an exemption to the land disposal restrictions under the 1984 Hazardous and Solid Waste Amendments to the Resource Conservation and Recovery Act has been granted to E. I. du Pont de Nemours & Company, Inc. (DuPont) for three Class I injection wells located at Beaumont, Texas. As required by 40 CFR part 148, the company has adequately demonstrated to the satisfaction of the Environmental Protection Agency by the petition and supporting documentation that, to a reasonable degree of certainty, there will be no migration of hazardous constituents from the injection zone for as long as the waste remains hazardous. This final decision allows the continued underground injection by DuPont, of the specific restricted hazardous wastes identified in the exemption, into Class I hazardous waste injection wells No. WDW-100, WDW-101, and WDW-188 at the Beaumont, Texas facility, until December 31, 2020, for the Frio Sand and until December 31, 2010, for the Oakville Sand, unless EPA moves to terminate the exemption under provisions of 40 CFR 148.24. As required by 40 CFR 148.22(b) and 124.10, a public notice was issued November 27, 2000, and a comment period extension notice was issued December 28, 2000, notifying the public of the opportunity to comment on this action. The initial public comment period opened on November 27, 2000, and closed on January 31, 2001. There was a public hearing held January 4, 2001. The second comment period opened on July 19, 2001, and closed on September 4, 2001. A responsiveness summary was prepared to address all of the extensive comments received. This decision constitutes final Agency action.

DATES: This action is effective as of November 21, 2001.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7165.

Sam Becker,
Acting Division Director, Water Quality Protection Division (6WQ).

[FR Doc. 01-29866 Filed 11-30-01; 8:45 am]

BILLING CODE 6560-50-P